DEPARTMENT OF LABOR

Occupational Safety and Health Administration

[Docket No. OSHA-2008-0042]

Announcement of a Meeting of the Advisory Committee on Construction Safety and Health (ACCSH), ACCSH Work Group Meetings, and Appointments to ACCSH Membership Including Member Representation Categories and Terms

AGENCY: Occupational Safety and Health Administration (OSHA), Department of Labor.

ACTION: Announcement of a meeting of the Advisory Committee on Construction Safety and Health (ACCSH), ACCSH Work Group meetings, and appointments to ACCSH membership including member representation categories and terms.

SUMMARY: ACCSH Work Groups will meet December 2-3, 2008, and ACCSH will meet December 4-5, 2008, in Washington, DC.

DATES: ACCSH Work Groups: ACCSH Work Groups will meet Tuesday and Wednesday, December 2-3, 2008, from 8:30 a.m. to 4:15 p.m. (See the Work Group Schedule information in the SUPPLEMENTARY INFORMATION section of this notice.)

ACCSH: ACCSH will meet Thursday, December 3, 2008, from 8:30 a.m. to 4:30 p.m. and Friday, December 4, 2008, from 8:30 a.m. to 12 p.m.

Submission of comments, requests to speak to ACCSH and requests for special accommodation: Comments, requests to speak and requests for special accommodation must be submitted (postmarked, sent, received) by November 21, 2008.

ADDRESSES: ACCSH and ACCSH Work Group Meetings: ACCSH and ACCSH Work Group Meetings will be held in Room N-3437A-D at the U.S. Department of Labor, 200 Constitution Avenue, NW., Washington, DC 20210.

Submission of comments, requests to speak at the ACCSH or ACCSH Work Group meetings: Interested parties may submit comments and requests to speak:

Electronically: You may submit materials, including attachments, electronically at http://www.regulations.gov, which is the Federal eRulemaking Portal. Follow the on-line instructions for submissions.

Facsimile (FAX): If your submission, including attachments is not longer than 10 pages, you may fax it to the OSHA Docket Office at: (202) 693-1648.

Mail, hand delivery, express mail, messenger, or courier service: Submit three copies of your submissions to the OSHA Docket Office, Room N-2625, U.S. Department of Labor, 200 Constitution Avenue, NW., Washington, DC 20210. Deliveries (hand, express mail, messenger, and courier service) are accepted during the Department of Labor's and OSHA Docket Office's normal business hours, 8:15 a.m.-4:45 p.m., e.t. For assistance submitting materials to the OSHA's Docket Office please call, telephone (202) 693-2350 or TTY (877) 889-5627.

Requests for Special Accommodations: Submit requests for special accommodations by telephone or e-mail to Ms. Veneta Chatmon, OSHA, Office of Communications, Room N-3647, U.S. Department of Labor, 200 Constitution Avenue, NW., Washington, DC 20210; telephone (202) 693-1999; e-mail chatmon.veneta@dol.gov.

Instructions: All submissions, requests to speak and requests for special accommodations must include the Agency name and the docket number for this meeting (Docket No. OSHA-2008-0042). Because of security-related procedures, submissions by regular mail may experience significant delays.

All submissions, including personal information, are placed in the public docket without change and may be available online. Therefore, OSHA cautions against submitting certain personal information such as social security numbers and birthdates. For further information on submitting comments, requests to speak and requests for public accommodation, see the Public Participation information in the SUPPLEMENTARY INFORMATION section of this notice.

FOR FURTHER INFORMATION CONTACT: For press inquiries: Ms. Jennifer Ashley, OSHA, Office of Communications, Room N-3647, U.S. Department of Labor, 200 Constitution Avenue, NW., Washington, DC 20210; telephone (202) 693-1999.

For general information about ACCSH and ACCSH meetings: Mr. Michael Buchet, OSHA, Directorate of Construction, Room N-3468, U.S. Department of Labor, 200 Constitution Avenue, NW., Washington, DC 20210; telephone (202) 693-2020; e-mail buchet.michael@dol.gov.

For information about submitting comments or requests to speak to ACCSH, and for special accommodations for the meetings: Ms. Veneta Chatmon, OSHA, Office of Communications, Room N-3647, U.S. Department of Labor, 200 Constitution Avenue, NW., Washington, DC 20210; telephone (202) 693-1999; e-mail chatmon.veneta@dol.gov.

SUPPLEMENTARY INFORMATION:

ACCSH Meeting

ACCSH will meet December 4-5, 2008, in Washington, DC. The meeting is open to the public.

ACCSH is authorized to advise the Secretary of Labor and Assistant Secretary of Labor for Occupational Safety and Health in the formulation of standards affecting the construction industry and on policy matters arising in the administration of the safety and health provisions of the Contract Work Hours and Safety Standards Act (Construction Safety Act) (40 U.S.C. 3701, 3704) and the Occupational Safety and Health Act of 1970 (29 U.S.C. 651 et seq.). (See also, 29 CFR 1911.10 and 1912.3.)

The agenda for this meeting includes:

• Comments from the Office of the Assistant Secretary;

• Construction Standards Update: OSHA, Directorate of Construction (DOC);

• Cooperative Programs Update: OSHA, Directorate of Cooperative and State Programs (DCSP);

• Construction Update: National Institute for Occupational Safety and Health (NIOSH);

• Mast Climbing Scaffold Comparative Overview: International Powered Access Federation;

• Work Group Reports, Work Group and Committee Administration: ACCSH Members;

• Ethics and Travel Considerations for Committee Members: Office of the Solicitor of Labor and OSHA Office of Communications;

• McGraw-Hill Construction Dodge Data Overview: McGraw-Hill Construction;

• IMIS Inspection Reporting and Data: OSHA, Directorate of Evaluation and Analysis; and

• Public Comment Period: Members of the public.

All ACCSH meetings, as well as those of its Work Groups, are open to the public. Individuals needing special accommodations for the ACCSH meeting or ACCSH Work Group meetings should contact Ms. Chatmon by November 21, 2008 (see the ADDRESSES section of this notice).

ACCSH meetings are transcribed and detailed minutes of the meetings are prepared. Meeting transcripts and minutes are included in the official record of ACCSH meetings. Work Group reports are also included in the official ACCSH meeting record.

ACCSH Work Group Meetings

In conjunction with the ACCSH meeting, the following ACCSH Work Groups will meet on December 2, 2008:

• Multilingual—8:30 to 10 a.m.;

• Silica—8:30 to 10 a.m.;

• Diversity—Women in Construction—10:30 a.m. to 12 p.m.; and

• Residential Fall Protection—1:45 to 4:15 p.m., December 2, 2008;

In conjunction with the ACCSH meeting, the following ACCSH Work Groups will meet on December 3, 2008:

• OTI (OSHA Training Institute work group)—8:30 to 10 a.m.;

• Trenching—8:30 to 10 a.m.;

• Regulatory Compliance (Formerly: Focused Inspection)—10:30 a.m. to 12 p.m.; and

• ROPS (Rollover Protective Systems)—1:45 to 4:15 p.m.

For additional information on ACCSH Work Group meetings or participating in them, please contact Mr. Michael Buchet at the address above or look on the ACCSH page on OSHA's Web page at http://www.osha.gov.

Public Participation

ACCSH Meetings and ACCSH Work Group Meetings Security Measures: ACCSH and ACCSH Work Group meetings are open to the public. Admission to the Department of Labor Building and the meetings requires valid government issued photo identification and a brief security check-in procedure at the Department of Labor's Visitor's entrance, 3rd and “C” Streets, NW., Washington, DC 20210. Meeting attendees should allow extra time to check in and reach the meeting rooms.

Submission of written comments and requests to address ACCSH. Interested parties may submit written comments and request to make oral presentations to ACCSH (1) electronically, (2) by FAX, or (3) by hard copy (mail, hand delivery, express mail, messenger, courier) by November 21, 2008. The request must state the amount of time desired, the interest the presenter represents (e.g., businesses, organizations, themselves, affiliations, etc.), if any, and a brief outline of the presentation. Alternately, at the Committee meeting, attendees may request to address ACCSH by signing the public comment request sheet and listing the interests they represent (e.g., businesses, organizations, themselves, affiliations, etc., if any) and the topics to be addressed. All requests to present to or address the committee may be granted at the ACCSH Chair's discretion and as time and circumstances permit.

At the Committee meeting, attendees also may submit written data, views, or comments, preferably with 20 copies, to Ms. Chatmon for distribution to ACCSH. Submissions, including personal information provided, will be included without change in the meeting record and posted at http://www.regulations.gov. Therefore, OSHA cautions interested parties about submitting certain personal information such as birth dates and social security numbers.

Access to the official record of ACCSH meetings, including Work Group reports: To read or download submissions or the official record of this ACCSH meeting, go to Docket No. OSHA-2008-0042 at http://www.regulations.gov. The official meeting record and all submissions for this meeting will be listed in the http://www.regulations.gov index. Although listed in the index, some documents (e.g., copyrighted materials) are not publicly available through http://www.regulations.gov. The official record and all submissions, including materials not available through http://www.regulations.gov, will be available for inspection and copying in the OSHA Docket Office at the address above.

ACCSH Membership

The ACCSH membership listed below includes members that the Secretary appointed to new or continuing terms on October 23, 2008.

New Appointments:

Representatives of Employee Viewpoints:

• Mr. Walter Jones, Associate Director, Occupational Safety and Health, The Laborers' Health and Safety Fund of North America (Term Expires October 23, 2010); and

• Mr. James Tomaseski, Director, Safety and Health Department, International Brotherhood of Electrical Workers (Term Expires October 23, 2010).

Representatives of Employer Viewpoints:

• Mr. William Ahal, Vice President of Pre-Construction, Alberici Constructors, Inc. (Term Expires October 23, 2010); and

• Ms. Susan Bilhorn, Senior Vice President of Operations, Jacobs Technology (Term Expires October 23, 2010).

Reappointments:

Representatives of Employee Viewpoints:

• Emmett M. Russell, Director—Department of Safety and Health, International Union of Operating Engineers (Term Expires October 23, 2010).

Representatives of Employer Viewpoints:

• Michael J. Thibodeaux, Consultant, National Association of Home Builders (Term Expires October 23, 2010).

Representative of the Public Interests:

• Thomas A. Broderick, Executive Director, Construction Safety Council and Chicagoland Construction Safety Council (Term Expires October 23, 2010).

Continuing ACCSH Members:

Representatives of Employee Viewpoints:

Thomas L. Kavicky, Safety Director/Assistant to the President, Chicago Regional Council of Carpenters (Term Expires November 30, 2009).

Frank L. Migliaccio, Jr., Executive Director, Safety and Health, International Association of Bridge, Structural, Ornamental and Reinforcing Iron Workers (Term Expires November 30, 2009).

Representatives of Employer Viewpoints:

Thomas R. Shanahan, Assistant Executive Director, National Association of Roofing Contractors (Term Expires November 30, 2009).

Daniel D. Zarletti, Vice President/Chief Risk Officer, Kenny Construction Company (Term Expires November 30, 2009).

Representative of the Public Interests:

Ms. Elizabeth Arioto, Elizabeth Arioto Safety and Health Consulting Services (Term Expires November 30, 2009).

Representatives of State safety and health agencies:

Kevin D. Beauregard, Assistant Deputy Commissioner, Assistant Director, Division of Occupational Safety and Health, North Carolina Department of Labor (Term Expires November 30, 2009); and

Steven D. Hawkins, Assistant Administrator, Tennessee Occupational Safety and Health Administration (Term Expires November 30, 2009).

Designee of the Secretary of Health and Human Services:

Matt Gillen, Senior Scientist and Construction Program Coordinator, National Institute of Occupational Safety and Health (Term Expiration: Indefinite).

Authority and Signature: Thomas M. Stohler, Acting Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), 29 CFR 1911 and 1912, and Secretary of Labor's Order No. 5-2007 (72 FR 31160).

Signed at Washington, DC this 10th day of November 2008.
Thomas M. Stohler,
Acting Assistant Secretary of Labor for Occupational Safety and Health.

[FR Doc. E8-27131 Filed 11-13-08; 8:45 am]

BILLING CODE 4510-26-P